DEPARTMENT OF ENERGY

10 CFR Part 429

[Docket No. EERE-2013-BT-NOC-0023]

Appliance Standards and Rulemaking Federal Advisory Committee: Notice of Open Teleconference/Webinar

AGENCY: Office of Energy Efficiency and Renewable Energy, Department of Energy.

ACTION: Notice of open Teleconference/Webinar.

SUMMARY: This document announces a meeting of the Appliance Standards and Rulemaking Federal Advisory Committee (ASRAC). The Federal Advisory Committee Act, PublicLaw 92-463, 86 Stat. 770, requires that agencies publish notice of an advisory committee meeting in the Federal Register.

DATES: Thursday, June 27, 2013 at 3:00 p.m.-5:00 p.m. (EDT).

ADDRESSES: Teleconference/Webinar Only, you may register at https://www1.gotomeeting.com/register/265936657. Upon registering you will receive the appropriate call-in information as well.

FOR FURTHER INFORMATION CONTACT: John Cymbalsky, ASRAC Designated Federal Officer, Supervisory Operations Research Analyst, U.S. Department of Energy (DOE), Office of Energy Efficiency and Renewable Energy, 950 L'Enfant Plaza SW., Washington, DC 20024. Email: asrac@ee.doe.gov.

SUPPLEMENTARY INFORMATION: Purpose of Meeting: To provide advice and recommendations to the Energy Department on the development of standards and test procedures for residential appliances and commercial equipment, certification and enforcement of standards, and product labeling.

Tentative Agenda: (Subject to change; final agenda will be posted at www.appliancestandards.energy.gov):

• Update on Commercial HVAC, Water Heating, and Refrigeration Certification Working Group efforts.

○ Openly review and deliberate on working group's formed recommendations on Alternate Efficiency Determination Methods.

• Open deliberation on possibly establishing a working group to explore negotiated rulemaking for commercial/industrial pumps.

• Set date for next in person meeting.

Public Participation: Members of the public are welcome to observe the business of the meeting and, if time allows, may make oral statements during the specified period for public comment. To attend the meeting and/or to make oral statements regarding any of the items on the agenda, email asrac@ee.doe.gov. In the email, please indicate your name, organization (if appropriate), citizenship, and contact information. Please note that foreign nationals visiting DOE Headquarters are subject to advance security screening procedures.

Members of the public will be heard in the order in which they sign up for the Public Comment Period. Time allotted per speaker will depend on the number of individuals who wish to speak but will not exceed five minutes. Reasonable provision will be made to include the scheduled oral statements on the agenda. The co-chairs of the Committee will make every effort to hear the views of all interested parties and to facilitate the orderly conduct of business.

Participation in the meeting is not a prerequisite for submission of written comments. ASRAC invites written comments from all interested parties. Any comments submitted must identify the ASRAC, and provide docket number EERE-2013-BT-NOC-0005. Comments may be submitted using any of the following methods:

1. Federal eRulemaking Portal: www.regulations.gov. Follow the instructions for submitting comments.

2. Email: ASRAC@ee.doe.gov. Include docket number EERE-2013-BT-NOC-0005 in the subject line of the message.

3. Mail: Ms. Brenda Edwards, U.S. Department of Energy, Building Technologies Office, Mailstop EE-2J, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024. Telephone: (202) 586-2945. If possible, please submit all items on a CD, in which case it is not necessary to include printed copies.

No telefacsimilies (faxes) will be accepted.

Docket: The docket is available for review at www.regulations.gov, including Federal Register notices, public meeting attendee lists and transcripts, comments, and other supporting documents/materials. All documents in the docket are listed in the www.regulations.gov index. However, not all documents listed in the index may be publicly available, such as information that is exempt from public disclosure.

The Secretary of Energy has approved publication of today's notice of proposed rulemaking.

Issued in Washington, DC, on June 19, 2013.
Kathleen B. Hogan,
Deputy Assistant Secretary for Energy Efficiency, Energy Efficiency and Renewable Energy.

[FR Doc. 2013-15124 Filed 6-24-13; 8:45 am]

BILLING CODE 6450-01-P